DEPARTMENT OF ENERGY

Availability of the Draft Programmatic Environmental Impact Statement (PEIS) for Accomplishing Expanded Civilian Nuclear Energy Research and Development and Isotope Production Missions in the United States, Including the Role of the Fast Flux Test Facility

AGENCY: Department of Energy.

ACTION: Notice of Availability.

SUMMARY: The Department of Energy (DOE) announces the availability of the Draft Programmatic Environmental Impact Statement for Accomplishing Expanded Civilian Nuclear Energy Research and Development and Isotope Production Missions in the United States, Including the Role of the Fast Flux Test Facility [Nuclear Infrastructure Programmatic Environmental Impact Statement (NI PEIS)] (DOE/EIS-0310D) for public review and comment. This draft PEIS, prepared under the National Environmental Policy Act (NEPA), analyzes the potential environmental impacts of using various irradiation and processing facilities to meet the following projected mission needs over a period of 35 years: (1) Production of medical, research, and industrial isotopes; (2) production of plutonium-238 to support future National Aeronautics and Space Administration (NASA) space missions; and (3) support for U.S. civilian nuclear research and development activities. In addition to a No Action alternative, DOE evaluated other alternatives that include using existing facilities within the DOE complex, constructing and operating a new research reactor, constructing and operating one or two new accelerators, restarting the Fast Flux Test Facility (FFTF) that is currently in stand-by status, and procuring irradiation services at a commercial light water reactor to produce plutonium-238. As a result of comments received from the public during the scoping period, DOE evaluated a fifth alternative to deactivate FFTF permanently without pursuing any further expansion of the infrastructure to accommodate expanded mission areas. As part of the No Action alternative, DOE has also evaluated the option of purchasing plutonium-238 from Russia through an existing contract. The Department has no preferred alternative at this time, but will identify one in the Final PEIS.

DATES: The Department invites the general public, other Federal agencies, and Tribal, State and local Governments to provide comments on this draft PEIS. The transmittal letter for the draft PEIS and the Summary stated that the comment period would end on September 11, 2000. The comment period has changed and now ends September 18, 2000. To ensure consideration in the preparation of the final PEIS, comments should be transmitted or postmarked by September 18, 2000. Comments submitted after that date will be considered to the extent practicable. The information obtained during the comment period will assist the Department in preparing the final PEIS, which is scheduled to be completed by November 2000.

During the comment period, the Department will hold public hearings to discuss the draft PEIS and to receive oral and written comments on the draft PEIS. Registration will begin at 6:00 p.m. before each meeting (2:00 p.m. in Virginia) and a brief DOE presentation on the draft PEIS will begin at 6:30 p.m. (2:30 p.m. in Virginia). The hearings will include an opportunity for informal discussions with project personnel before and after the DOE presentation. The hearings are scheduled for the following dates, times, and locations:

Tuesday, August 22, 2000

American Museum of Science and Energy, 300 South Tulane Avenue, Oak Ridge, TN 37830, (865) 576-3200

Friday, August 25, 2000

Westcoast Idaho Falls Hotel (formerly Cavanaughs on the Falls), 475 River Parkway, Idaho Falls, ID 83402, (208) 523-8000

Monday, August 28, 2000

Hood River Inn, 1108 E. Marina Way, Hood River, OR 97031, (541) 386-2200

Tuesday, August 29, 2000

Oregon Museum of Science and Technology, 1945 SE Water Avenue, Portland, OR 97214, (503) 797-4671

Wednesday, August 30, 2000

Washington State Convention and Trade Center, 800 Convention Place, Seattle, WA 98101, (206) 694-5111

Thursday, August 31, 2000

Best Western Tower Inn and Conference Center, 1515 George Washington Way, Richland, WA 99352, (509) 946-4121

Wednesday, September 6, 2000

Crystal Gateway Marriott, 1700 Jefferson Davis Highway, Arlington, VA 22202, (703) 271-5108

The format for the hearings will include registration, a DOE presentation on the draft PEIS, a question and answer session, and an opportunity to provide comments to DOE staff members. The purpose of registration is to provide handouts to each participant, update the project mailing list, and answer any questions participants may have about the hearings. Registration is not required and there will be no sign-up sheets for the order of speakers. A DOE staff member will give a presentation, about 20 minutes long, followed by a short question and answer period about the presentation. A facilitator will then open the floor to the public for comments. To ensure that all persons wishing to provide comments are given an opportunity, each speaker may be limited to five minutes, including representatives of groups. Elected officials will be given first priority for speaking and each official may be limited to ten minutes. Then the facilitator will select participants at random from the audience to provide their comments. Those commentors who need more time will be invited to speak after everyone has had an initial opportunity to provide their comments. Comments will be transcribed by a comment recorder. Another comment recorder will be available in a separate room to receive comments from participants who may not be able to attend the entire session, or who would like to give their comments and depart. DOE personnel will be available throughout the hearings and will stay until all participants have had a chance to comment. The Department encourages those providing oral comments at the hearings to also submit them in writing. Comment forms will be available at the hearings.

The Department will make transcripts of the draft PEIS hearings available to the public at the following public reading rooms about one month after the public hearings have been held. References for the draft PEIS are available in the public reading rooms listed below.

U.S. Department of Energy, Freedom of Information Reading Room, Forrestal Building, Room 1E-190, 1000 Independence Avenue, SW., Washington, DC 20585-0117, Telephone: (202) 586-3142

Idaho National Engineering and Environmental Laboratory, DOE-Idaho Operations Office Public Reading Room, 1776 Science Center Drive, Idaho Falls, Idaho 83415, Telephone: (208) 526-0271

Portland State University, Branford Price Millar Library, Government Documents Section, 951 Southwest Hall, Portland, Oregon 97207, (503) 725-3690

U.S. Department of Energy, Public Reading Room, 230 Warehouse Road, Building 1916-T-2, Suite 300, Oak Ridge, Tennessee 37831, (865) 241-4780

Richland Public Library, 955 Northgate Drive, Richland, Washington, 99352, Telephone: (509) 942-7457

U.S. Department of Energy, DOE Public Reading Room, 2770 University Drive, CIC, Room 101L, Richland, Washington 99352, Telephone: (509) 372-7443

University of Washington, Suzzallo Library, Government Publications Room, Seattle, Washington 98195, Telephone: (206) 543-1937

Gonzaga University, Foley Center Library, East 502 Boone, Spokane, Washington 99258, Telephone: (509) 323-6532

ADDRESSES: Written comments on the draft PEIS, requests for special arrangements to enable participation in the hearings (e.g., an interpreter for the hearing impaired), requests to be placed on the final PEIS distribution list, and questions concerning the proposed action should be sent to: Ms. Colette Brown, PEIS Document Manager, Office of Nuclear Energy, Science and Technology, U.S. Department of Energy, NE-50, 19901 Germantown Road, Germantown, Maryland 20874-1290.

Comments, questions and special requests may also be submitted by toll-free facsimile to (877) 562-4592, or by electronic mail to Nuclear.Infrastructure-PEIS@hq.doe.gov.

FOR FURTHER INFORMATION CONTACT: For further information about the proposed action, contact Ms. Colette E. Brown as above under ADDRESSES, or call her toll-free at (877) 562-4592. For general information on the Department's National Environmental Policy Act (NEPA) process, please contact: Ms. Carol M. Borgstrom, Director, Office of NEPA Policy and Compliance (EH-42), Office of Environment, Safety and Health, U.S. Department of Energy, 1000 Independence Avenue, SW., Washington, DC 20585-0119; or telephone (202) 586-4600 or leave a message at (800) 472-2756.

SUPPLEMENTARY INFORMATION: Under the authority of the Atomic Energy Act of 1954, as amended, DOE is responsible for ensuring the availability of isotopes for medical, industrial and research applications, meeting the nuclear material needs of other Federal agencies, and undertaking research and development activities related to development of nuclear power for civilian use. To meet these responsibilities, DOE maintains nuclear infrastructure capabilities that support various missions in these areas. These infrastructure capabilities include those of nuclear research and test facilities, such as reactors and accelerators, as well as shielded “hot cell” and glovebox facilities used to prepare nuclear materials for testing and/or to perform postirradiation processing of materials.

To continue to maintain sufficient irradiation facilities to meet its obligations under the Atomic Energy Act, DOE must assess the need for expanding its nuclear infrastructure in light of its commitments to ongoing programs, its commitment to other agencies for nuclear materials support, and its role in supporting civilian nuclear research and development programs.

The Nuclear Energy Research Advisory Committee (NERAC), established in 1998 by DOE to provide independent, expert advice on complex science and technical issues that arise in the planning, management, and implementation of DOE's civilian nuclear energy research programs, informed the Secretary of Energy that “(a) there is an urgent sense that the Nation must rapidly restore an adequate investment in basic and applied research in nuclear energy if it is to sustain a viable United States capability in the 21st Century, (b) the most important role for DOE in the nuclear energy area at the present time is to ensure that the education system and its facility infrastructure are in good shape, and (c) of particular need over the longer term are dependable sources of research isotopes and reactor facilities providing high volume flux irradiation for nuclear fuels and materials testing” (letter dated June 13, 2000, from J.J.Duderstadt, Chair, Nuclear Energy Research Advisory Committee to The Honorable W. Richardson, Secretary of Energy).

Under the guidance of NERAC, DOE has completed an assessment of its existing nuclear facility infrastructure capabilities (U.S. Department of Energy Nuclear Science and Technology Infrastructure Roadmap, Draft, Revision 1 Summary, March 2000). The basic finding of this assessment was that the capabilities of currently operating DOE facilities will not meet projected U.S. needs for nuclear materials production and testing, research, and development. As demand continues to increase for steady-state neutron sources needed for isotope production and nuclear research and development, DOE's nuclear infrastructure capabilities to support this demand have not improved. Over the years, DOE's nuclear facility infrastructure has diminished because of the shutdown of old facilities, including the High Flux Beam Reactor at Brookhaven National Laboratory, New York, and the Cyclotron Facility at Oak Ridge National Laboratory, Tennessee. This has hampered DOE's ability to satisfy increasing demands in various mission areas. The Department's facilities at the Savannah River Site, previously used for plutonium-238 production for the space program, are also no longer available.

Consistent with these findings, DOE recognizes that adequate nuclear research reactor, accelerator, and associated support facilities must be made available in order to implement and maintain a successful nuclear energy program. To continue meeting its responsibilities under the Atomic Energy Act and to satisfy projected increases in the future demand for isotope products and irradiation services, DOE proposes to enhance its existing nuclear facility infrastructure to: (1) Produce isotopes for medical, research, and industrial uses, (2) produce plutonium-238 for use in advanced radioisotope power systems for future NASA space exploration missions, and (3) support the Nation's nuclear research and development needs for civilian applications.

The NI PEIS evaluates a No Action Alternative and five action alternatives. The action alternatives focus on the use of irradiation facilities that are currently operating, those that could be brought online, or those that could be constructed and operated to meet DOE's nuclear facility infrastructure requirements.

No Action Alternative (maintain status quo): Ongoing operations at existing facilities would continue. DOE would not establish a domestic plutonium-238 production capability, but could, instead, purchase Russian plutonium-238 to meet the needs of future U.S. space missions. However, the existing contract, which expires in 2002, would have to be renegotiated or a new contract would have to be established. FFTF at Hanford would be maintained in standby status.

Alternative 1—Restart FFTF: FFTF at Hanford would be restarted to irradiate targets for medical and industrial isotope production, plutonium-238 production, and nuclear research and development irradiation requirements for a period of 35 years. Ongoing operations at other existing facilities would continue.

Alternative 2—Use Only Existing Operational Facilities: DOE would use existing operating DOE reactors or U.S. commercial light water reactors to produce plutonium-238 for future space missions. The production of medical and industrial isotopes and support of nuclear research and development in DOE reactors and accelerators would continue at the No Action Alternative levels. Other ongoing operations at existing facilities would continue. FFTF at Hanford would be permanently deactivated.

Alternative 3—Construct New Accelerator(s): One or two new accelerators would be constructed for target irradiation and operated for a period of 35 years. The new accelerator(s) would be constructed at an existing DOE site and would be used to irradiate all of the targets for production of plutonium-238, isotopes for medical and industrial uses, and materials testing for research and development. Other ongoing operations at existing facilities would continue. FFTF at Hanford would be permanently deactivated.

Alternative 4—Construct New Research Reactor: A new research reactor would be constructed for target irradiation and operated for a period of 35 years. The new research reactor would be constructed at an existing DOE site, and would be used to irradiate all targets for production of plutonium-238, isotopes for medical and industrial uses, and materials testing for research and development. Other ongoing operations at existing facilities would continue. FFTF at Hanford would be permanently deactivated.

Alternative 5—Permanently Deactivate FFTF (with no new missions): FFTF at Hanford would be permanently deactivated and no enhancements to DOE's nuclear facilities infrastructure would be made. Plutonium-238 would not be produced or purchased. Ongoing operations, such as medical and industrial isotope production and nuclear research and development missions, at existing facilities would continue.

The environmental impact analysis addresses the full range of natural and human resource areas pertinent to the sites considered for the nuclear infrastructure alternatives. Impacts are assessed for human health, land resources, noise, air quality, water resources, geology and soils, ecological resources, cultural and paleontological resources, socioeconomics, and waste management. A region of influence for each resource area is identified and analyzed for each candidate site.

Baseline conditions at the three DOE sites assessed in the NI PEIS, the Oak Ridge Reservation, Idaho National Engineering and Environmental Laboratory, and Hanford, as well as an existing generic commercial light water reactor, include present and reasonably foreseeable future actions at each site. Sitewide data set forth in the No Action Alternative define the baseline conditions used in the analysis of action alternatives for each site and are the data upon which incremental impacts for action alternatives were imposed to determine overall impacts.

The Department does not have a preferred alternative at this time, but a preferred alternative will be identified in the final PEIS. The environmental analysis in the PEIS, public comments, the findings of a separate cost study and a nonproliferation report that are being prepared concurrently with the PEIS, as well as other program and policy factors, will be considered in making a decision. The Record of Decision to be published in the Federal Register will be issued no sooner than 30 days after the U.S. Environmental Protection Agency's notice of availability of the final PEIS has been published in the Federal Register.

Issued in Washington, D.C., this 24th day of July 2000.
R. Shane Johnson,
Acting Associate Director for Technology and International Cooperation, Office of Nuclear Energy, Science and Technology.

[FR Doc. 00-19092 Filed 7-27-00; 8:45 am]

BILLING CODE 6450-01-P